DEPARTMENT OF COMMERCE

[Docket No.: 080527711-8713-01]

Privacy Act of 1974; System of Records

AGENCY: Department of Commerce.

ACTION: Notice of a new Privacy Act System of Records: COMMERCE/NOAA-20, Search and Rescue Satellite Aided Tracking (SARSAT) 406 MHz Emergency Beacon Registration Database.

SUMMARY: The Search and Rescue Satellite Aided Tracking (SARSAT) is responsible for keeping and maintaining a registration database for 406 MHz emergency beacons as directed by the Federal Communications Commission (FCC). This database contains personally identifiable information that is required to be protected by the Privacy Act. The purpose for this system of records is to provide search and rescue (SAR) authorities with information about the user of the beacon such as the name, phone number, and emergency contact information. This information allows SAR authorities to shorten response times, and provides a way to cancel false alerts quickly and safely, thereby increasing safety for SAR authorities and decreasing costs to the government and the SAR system.

DATES: The system of records becomes effective on June 6, 2008.

ADDRESSES: For a copy of the system of records please mail requests to LT Jeffrey Shoup, SARSAT Operations Support Officer, 4231 Suitland Road, Suitland, MD 20746-4304.

FOR FURTHER INFORMATION CONTACT: LT Jeffrey Shoup, SARSAT Operations Support Officer, 4231 Suitland Road, Suitland, MD 20746-4304, 301-817-3806.

SUPPLEMENTARY INFORMATION: On April 17, 2008, SARSAT published and requested comments on a proposed Privacy Act System of Records notice entitled Commerce/NOAA-20, Search and Rescue Satellite Aided Tracking (SARSAT) 406 MHz Emergency Beacon Registration Database. No comments were received in response to the request for comments. By this notice, the Department is adopting the proposed system as final without changes effective June 6, 2008.

Dated: June 2, 2008.
Brenda Dolan,
U.S. Department of Commerce, Freedom of Information/Privacy Act Officer.

[FR Doc. E8-12677 Filed 6-5-08; 8:45 am]

BILLING CODE 3510-03-P